FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011279-029.

Title: Latin America Agreement.

Parties: ABC Discussion Agreement; Caribbean Shipowners Association; Central America Discussion Agreement; Compania Libra de Navegacion Uruguay S.A.; Venezuelan Discussion Agreement; West Coast of South America Discussion Agreement; and Zim Integrated Shipping Services, Ltd.

Filing Party: Wayne R. Rohde, Esq.; Cozen O'Connor; 1627 I Street, NW.; Suite 1100; Washington, DC 20006.

Synopsis: The amendment deletes the lists of member lines of the constituent agreements.

Agreement No.: 011830-009.

Title: Indamex Cross Space Charter, Sailing and Cooperative Working Agreement.

Parties: APL Co. Pte Ltd; American President Lines, Ltd.; CMA CGM S.A.; Hapag-Lloyd AG; Nippon Yusen Kaisha; Orient Overseas Container Line Limited.

Filing Parties: Wayne R. Rohde, Esq.; Cozen O'Connor; 1627 I Street NW.; Suite 1100; Washington, DC 20006.

Synopsis: The amendment would list the duration of APL's membership in the agreement, make APL a space charterer during the period between the effectiveness of the amendment and the effective date of its resignation, and revise the agreement to reflect changes in vessel provisions resulting from the change in APL's status. The Amendment would also make certain technical corrections to the agreement and restate the agreement.

Agreement No.: 012084-005.

Title: HLAG/Maersk Line Gulf-South America Slot Charter Agreement.

Parties: Hapag-Lloyd AG: A.P. Moller-Maersk A/S.

Filing Party: Wayne R. Rohde, Esq.; Cozen O'Connor; 1627 I Street NW.; Suite 1100; Washington, DC 20006.

Synopsis: The amendment replaces A.P. Moller-Maersk A/S with Maersk Line A/S.

Agreement No.: 012184-003.

Title: Crowley/Maersk Line Panama-U.S. Space Charter Agreement.

Parties: Crowley Latin America Services, LLC and A.P. Moller-Maersk A/S.

Filing Party: Wayne R. Rohde, Esq.; Cozen O'Connor; 1627 I Street NW.; Suite 1100; Washington, DC 20006-4007.

Synopsis: The amendment changes the name of the Maersk entity that is party to the agreement.

Agreement No.: 012238-001.

Title: HLAG/Maersk Line Gulf-Central America Slot Charter Agreement.

Parties: Hapag-Lloyd AG and A.P. Moller-Maersk A/S trading under the name Maersk Line.

Filing Party: Wayne R. Rohde; Cozen O'Connor; 1627 I Street NW.; Suite 1100; Washington, DC 20006.

Synopsis: The agreement changes the name of the Maersk entity that is party to the agreement.

Agreement No.: 012260-001.

Title: MSC/Maersk Line USEC-WCSA Space Charter Agreement.

Parties: MSC Mediterranean Shipping Company and A.P. Moller Maersk A/S.

Filing Party: Wayne R. Rohde, Esq.; Cozen O'Connor; 1627 I Street NW.; Suite 1100; Washington, DC 20006.

Synopsis: The Amendment replaces A.P. Moller-Maersk A/S with Maersk Line A/S and updates the contact information for MSC.

Agreement No.: 012295-001.

Title: Hoegh/Hyundai Glovis Middle East Space Charter Agreement.

Parties: Hoegh Autoliners AS and Hyundai Glovis Co. Ltd.

Filing Party: Wayne R. Rohde, Esq.; Cozen O'Connor; 1627 I Street, NW.; Suite 1100; Washington, DC 20006.

Synopsis: The amendment would add India to the scope of the Agreement.

Agreement No.: 012316.

Title: CMA CGM/HSDG/UASC/Vessel Sharing Agreement.

Parties: CMA CGM, S.A.; Hamburg Sud; United Arab Shipping Co.

Filing Party: Draughn B. Arbona, Esq; CMA CGM (America) LLC; 5701 Lake Wright Drive; Norfolk, VA 23502

Synopsis: The Agreement establishes a Vessel Sharing Agreement among the parties in the trade between the Far East, Colombia, U.S. East Coast and North Europe.

By Order of the Federal Maritime Commission.
Dated: February 6, 2015.
Karen V. Gregory,
Secretary.

[FR Doc. 2015-02822 Filed 2-10-15; 8:45 am]

BILLING CODE 6730-01-P